INTERNATIONAL TRADE COMMISSION

Security Procedures for Persons Delivering/Picking Up Packages and Documents

AGENCY: United States International Trade Commission.

ACTION: Security Procedures—Persons Delivering/Picking Up Packages and Documents.

SUMMARY: Effective immediately, all persons delivering and picking up packages and documents to USITC offices and employees must report to the mailroom, room 119 or the Office of the Secretary, suite 112.

Between the hours of 8:45 a.m. to 5:15 p.m., Monday through Friday, excluding weekends, holidays, and other days in which the agency is closed, such persons are ONLY allowed to deliver packages and documents to the mailroom, room 119 and the Office of the Secretary, suite 112.

During workdays prior to 8:45 a.m. and after 5:15 p.m. and all hours on weekends, holidays and other days in which the agency is closed, such persons will report to the guards desk in the lobby. The guard will call the intended recipient and request that they come to the main lobby and pick up the delivered material. If the guard's calls are not answered, the guard will leave a voice mail message stating that a package has been left in the USITC depository box located on the first floor center stairwell.

EFFECTIVE DATE: March 16, 2000.

FOR FURTHER INFORMATION CONTACT: Jonathan Brown (202-205-2745), Office of Facilities Management, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

Issued: March 16, 2000.
Donna R. Koehnke,
Secretary.

[FR Doc. 00-7079 Filed 3-21-00; 8:45 am]

BILLING CODE 7020-02-P